DEPARTMENT OF ENERGY

Federal Energy Regulatory Commission

[Docket No. AD04-9-005]

Review of Cost Submittals by Other Federal Agencies for Administering Part I of the Federal Power Act; Notice of Technical Conference

April 6, 2005.

1. In an order issued on October 8, 2004, the Commission set forth a deadline for Other Federal Agencies (OFAs) to submit their costs related to Administering Part I of the Federal Power Act for FY 1998-2004. The Commission required the OFAs to submit their costs by December 31, 2004, using the final version of the cost reporting form for this purpose, issued on August 13, 2004, and using the new procedures discussed in the body of the order. The order also announced that a technical conference would be held for the purpose of initializing the review process of the submitted cost forms.

2. Due to the scope of the new reporting guidelines, some agencies were unable to compile their cost reports by the December 31, 2004, deadline. Therefore the Commission waived the deadline and allowed later submissions. With all cost reports received, the Commission now proceeds with the review process.

3. The Commission will hold a technical conference for reviewing the submitted OFA costs. The purpose of the conference will be for OFAs and licensees to discuss costs reported in the forms and any other supporting documentation or analyses.

4. The Conference will be held on April 26, 2005, in Hearing Room 1 at the Commission's headquarters at 888 First Street, NE., Washington, DC. The conference will begin at 10 a.m. (E.S.T.). An agenda may be viewed on the Commission's Web site by April 14, 2005.

5. The technical conference will also be transcribed. Those interested in obtaining a copy of the transcript immediately for a fee should contact the Ace-Federal Reporters, Inc., at 202-347-3700, or 1-800-336-6646. Two weeks after the post-forum meeting, the transcript will be available for free on the Commission's e-library system. Anyone without access to the Commission's Web site or who has questions about the technical conference should contact Anton Porter at 202-502-8728, e-mail at anton.porter@ferc.gov.

6. FERC conferences are accessible under section 508 of the Rehabilitation Act of 1973. For accessibility accommodations please send an e-mail to accessibility@ferc.gov or call toll free 866-208-3372 (voice) or 202-208-1659 (TTY), or send a FAX to 202-208-2106 with the required accommodations.

Linda Mitry,
Deputy Secretary.

[FR Doc. E5-1702 Filed 4-11-05; 8:45 am]

BILLING CODE 6717-01-P